NATIONAL SCIENCE FOUNDATION

Advisory Panel for Cognitive, Psychological and Language Sciences; Notice of Meeting

In accordance with the Federal Advisory Committee Act (Pub. L. 92-463, as amended), the National Science Foundation (NSF) announces the following meeting of the Advisory Panel for Cognitive, Psychological and Language Sciences (#1758);

Date and Time: October 11-13, 2000; 8:00 a.m.-6:30 p.m.

Place: 4201 Wilson Boulevard, Room 390, Arlington, VA.

Contact Person: Dr. Catherine Ball, Program Director for Linguistics, National Science Foundation, 4201 Wilson Boulevard, Suite 995, Arlington, VA 22230. Telephone: (703) 292-8731.

Type of Meeting: Closed.

Purpose of Meeting: To provide advice and recommendations concerning support for research proposals submitted to the NSF for financial support.

Agenda: To review and evaluate linguistics proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: October 3, 2000.
Karen J. York,
Committee Management Officer.

[FR Doc. 00-25821 Filed 10-6-00; 8:45 am]

BILLING CODE 7555-01-M